DEPARTMENT OF HOMELAND SECURITY

Coast Guard

33 CFR Part 165

[Docket No. USCG-2017-1071]

Safety Zone; Captain of the Port Boston Fireworks Display Zone, Boston Harbor, Boston, MA

AGENCY: Coast Guard, DHS.

ACTION: Notice of enforcement of regulation.

SUMMARY: The Coast Guard will enforce safety zones for First Night Fireworks on December 31, 2017, to provide for the safety of life on navigable waterways during the fireworks display. Our regulation for Captain of the Port (COTP) Boston fireworks display zones, Boston Harbor, Boston, MA identifies the regulated areas for this fireworks display. During the enforcement period, no vessel may transit these regulated areas without approval from the COTP Boston or a designated representative.

DATES: The regulation in 33 CFR 165.119(a)(2) and 33 CFR 165.119(a)(3) will be enforced from 10 p.m. on December 31, 2017, until 12:15 a.m. on January 1, 2018.

FOR FURTHER INFORMATION CONTACT: If you have questions about this notice of enforcement, call or email Mark Cutter, Sector Boston Waterways Management Division, U.S. Coast Guard; telephone 617-223-4000, email Mark.E.Cutter@uscg.mil.

SUPPLEMENTARY INFORMATION: The Coast Guard will enforce the safety zones in 33 CFR 165.119(a)(2) and 33 CFR 165.119(a)(3) from 10:00 p.m. on Sunday, December 31, 2017 until 12:15 a.m. on Monday, January 1, 2018, for the First Night Fireworks in Boston Inner Harbor. This action is being taken to provide for the safety of life on navigable waterways during the fireworks display. Our regulation for COTP Boston Fireworks display zone, Boston Harbor, Boston, MA, 33 CFR 165.119(a)(2), specifies the location of the regulated area as all U.S. navigable waters of Boston inner Harbor within a 700-foot radius of the fireworks barge in the approximate position 42°21′41.2″ N 071°02′36.5″ W (NAD 1983), located off of Long Wharf, Boston, MA. Regulation 33 CFR 165.119(a)(3), specifies the location of the regulated area as all U.S. navigable waters of Boston inner Harbor within a 700-foot radius of the fireworks barge in the approximate position 42°21′23.2″ N 071°02′26″ W (NAD1983), located off of Fan Pier, Boston, MA. As specified in 33 CFR 165.119(e), during the enforcement period, no vessel except for fireworks barges and accompanying vessels may transit these regulated areas without approval from the COTP Boston or a COTP designated representative.

This notice of enforcement is issued under authority of 33 CFR 165.119 and 5 U.S.C. 552 (a). In addition to this notice of enforcement in the Federal Register, the Coast Guard plans to provide mariners with advanced notification of this enforcement period via the Local Notice to Mariners and Broadcast Notice to Mariners.

Dated: December 14, 2017.
C.C. Gelzer,
Captain, U.S. Coast Guard, Captain of the Port Boston.

[FR Doc. 2017-27582 Filed 12-21-17; 8:45 am]

BILLING CODE 9110-04-P